DEPARTMENT OF AGRICULTURE

Forest Service

Wolfmann Projects, Willamette National Forest, Lane County, OR

AGENCY: Forest Service, USDA.

ACTION: Cancellation notice.

SUMMARY: October 14, 1998, a Notice of Intent (NOI) to prepare an environmental impact statement for the Wolfmann Projects on the Blue River Ranger District of the Willamette National Forest, was published in the Federal Register (63 FR 55085). The 1998 NOI is hereby rescinded.

FOR FURTHER INFORMATION CONTACT: Cheryl Friesen, Project Leader, McKenzie River Ranger District (formerly Blue River Ranger District), McKenzie Bridge, Oregon 97413, phone 541-822-3381.

Dated: July 29, 2002.
John Allen,
District Ranger, McKenzie River Ranger District.

[FR Doc. 02-20945 Filed 8-16-02; 8:45 am]

BILLING CODE 3410-11-M